NATIONAL FOUNDATION FOR THE ARTS AND THE HUMANITIES

National Endowment for the Arts; National Council on the Arts 146th Meeting

Pursuant to section 10(a)(2) of the Federal Advisory Committee Act (Public Law 92-463), as amended, notice is hereby given that a meeting of the National Council on the Arts will be held on July 11, 2002 from 2 p.m.-5:30 p.m. in Room 527 and on July 12, 2002 from 9 a.m. to 1:15 p.m. in Room M-09 at the Nancy Hanks Center, 1100 Pennsylvania Avenue, NW, Washington, DC 20506.

The Council will meet in closed session on July 11th, from 2:00 to 5:30 p.m. for discussion of National Medal of Arts nominations. In accordance with the determination of the Chairman of May 2, 2002, this session will be closed to the public pursuant to subsection (c)(4),(6) and (9)(B) of section 552b of Title 5, United States Code. The remainder of meeting, from 9 a.m. to 1:15 p.m. on July 12th, will be open to the public on a space available basis. Following opening remarks and announcements, new Council members will be sworn in, after which there will be a presentation on “Critical Links: Learning in the Arts,” by Dr. James Catterall, UCLA Graduate School of Education. This will be followed by Congressional, White House, budget and planning updates. Former mayor of Cincinnati Roxanne Qualls and Mayor Raymond Caballero of El Paso will make presentations on the Mayors Institute on City Design. There will be additional guest presentations on Design grants Structures for Inclusion (Rural Studios/Design Corp: Bryan Bell) and Seattle Art Museum/Olympic Sculpture Park (Weiss/Manfredi architects: Chris Rogers, project director; Virginia Wright, museum board member). Other topics will include: Application Review for American Jazz Masters Fellowships, New Public Works/Design, and Leadership Initiatives; review of Guidelines for New Public Works; and general discussion.

If, in the course of the open session discussion, it becomes necessary for the Council to discuss non-public commercial or financial information of intrinsic value, the Council will go into closed session pursuant to subsection (c)(4) of the Government in the Sunshine Act, 5 U.S.C. 552b. Additionally, discussion concerning purely personal information about individuals, submitted with grant applications, such as personal biographical and salary data or medical information, may be conducted by the Council in closed session in accordance with subsection (c)(6) of 5 U.S.C. 552b.

Any interested persons may attend, as observers, Council discussions and reviews that are open to the public. If you need special accommodations due to a disability, please contact the Office of AccessAbility, National Endowment for the Arts, 1100 Pennsylvania Avenue, NW, Washington, DC 20506, 202/682-5532, TTY-TDD 202/682-5429, at least seven (7) days prior to the meeting.

Further information with reference to this meeting can be obtained from the Office of Communications, National Endowment for the Arts, Washington, DC 20506, at 202/682-5570.

Dated: June 11, 2002.
Kathy Plowitz-Worden,
Panel Coordinator, Office of Guidelines and Panel Operations.

[FR Doc. 02-15116 Filed 6-14-02; 8:45 am]

BILLING CODE 7537-01-P